DEPARTMENT OF COMMERCE

National Oceanic and Atmospheric Administration

Maritime Museum Seat Vacancy for the Monitor National Marine Sanctuary Advisory Council

AGENCY: National Marine Sanctuary Program (NMSP), National Ocean Service (NOS), National Oceanic and Atmospheric Administration, Department of Commerce (DOC).

ACTION: Notice and request for applications.

SUMMARY: The Monitor National Marine Sanctuary (MNMS or Sanctuary) is seeking applicants for the Maritime Museum seat on its Sanctuary Advisory Council (Council).

Applicants are chosen based upon their particular expertise and experience in relation to the seat for which they are applying; community and professional affiliations; philosophy regarding the protection and management of marine resources; and possibly the length of residence in the area affected by the Sanctuary. Applicants who are chosen as members should expect to serve 2-year terms, pursuant to the Council's Charter.

DATES: Applications are due by June 30, 2006.

ADDRESSES: Application kits may be obtained from: Krista Trono, Monitor National Marine Sanctuary, 100 Museum Drive, Newport News, VA 23602. Completed applications should be sent to the same address.

FOR FURTHER INFORMATION CONTACT: Krista Trono, Communications Coordinator, Monitor National Marine Sanctuary, 100 Museum Drive Newport News, VA 23602. (757) 591-7328, Fax: (757) 591-7353, Krista.Trono@noaa.gov.

SUPPLEMENTARY INFORMATION: The MNMS Advisory Council was established in 2005 and representation currently consists of eleven members, including four government agency representatives and seven members from the general public. The Council functions in an advisory capacity to the Sanctuary Superintendent. The Council works in concert with the Sanctuary Superintendent by keeping him or her informed about issues of concern throughout the Sanctuary, offering recommendations on specific issues, and aiding the Manager in achieving the goals of the Sanctuary program. Specifically, the Council's objectives are to provide advice on: (1) Protecting cultural resources, and identifying and evaluating emergent or critical issues involving Sanctuary use or resources; (2) Identifying and realizing the Sanctuary's research objectives; (3) Identifying and realizing educational opportunities to increase the public knowledge and stewardship of the Sanctuary environment; and (4) Assisting to develop an informed constituency to increase awareness and understanding of the purpose and value of the Sanctuary and the National Marine Sanctuary Program.

Authority: 16 U.S.C. Sections 1431, et seq.

(Federal Domestic Assistance Catalog Number 11.429 Marine Sanctuary Program)

Dated: June 5, 2006.
Daniel J. Basta,
Director, National Marine Sanctuary Program, National Oceanic and Atmospheric Administration.

[FR Doc. 06-5421 Filed 6-14-06; 8:45 am]

BILLING CODE 3510-NK-M